DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having an effect in order to qualify or remain qualified for participation in the Federal Emergency Management Agency's (FEMA's) National Flood Insurance Program (NFIP).

DATES: The date of November 14, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

Catalog of Federal Domestic Assistance No. 97.022, “Flood Insurance.”

Elizabeth Asche,
Assistant Administrator, Federal Insurance Directorate, Resilience, Federal Emergency Management Agency, Department of Homeland Security.

Community | Community map repository address
Calhoun County, Florida and Incorporated Areas
Docket No.: FEMA-B-2190
City of Blountstown | City Hall, 20591 Central Avenue West, Blountstown, FL 32424.
Town of Altha | Town Hall, 25586 North Main Street, Altha, FL 32421.
Unincorporated Areas of Calhoun County | Calhoun County Courthouse, 20859 Central Avenue East, Room G40, Blountstown, FL 32424.
Jackson County, Florida and Incorporated Areas
Docket No.: FEMA-B-2190
City of Marianna | City Hall, 2895 Jefferson Street, Marianna, FL 32446.
Unincorporated Areas of Jackson County | Jackson County Planning Division, 4979 Healthy Way, Suite B, Marianna, FL 32446.
Thayer County, Nebraska and Incorporated Areas
Docket No.: FEMA-B-2443
City of Deshler | City Office, 305 East Bryson Avenue, Deshler, NE 68340.
City of Hebron | City Hall, 216 Lincoln Avenue, Hebron, NE 68370.
Unincorporated Areas of Thayer County | Thayer County Planning and Zoning Office, 225 North 4th Street, Hebron, NE 68370.
Village of Alexandria | Tucker Memorial Library, 313 Harbine Street, Alexandria, NE 68303.
Village of Belvidere | City Hall and Fire Hall, 402 C Street, Belvidere, NE 68315.
Village of Bruning | Village Clerk's Office, 141 East Main Street, Bruning, NE 68322.
Village of Byron | Village Office, 225 Kansas Avenue, Byron, NE 68325.
Village of Carleton | Village Hall, 550 D Street, Carleton, NE 68326.
Village of Chester | Village Hall, 621 Thayer Avenue, Chester, NE 68327.
Village of Davenport | Village Office, 108 North Oak Avenue, Davenport, NE 68335.
Village of Gilead | Village Hall, 310 Main Street, Gilead, NE 68362.
Village of Hubbell | Village Office, 307 Indiana Street, Hubbell, NE 68375.
Orleans County, New York (All Jurisdictions)
Docket No.: FEMA-B-2434
Town of Albion | Town Hall, 3665 Clarendon Road, Albion, NY 14411
Town of Barre | Barre Town Hall, 14317 West Barre Road, Albion, NY 14411
Town of Carlton | Carlton Town Hall, 14341 Waterport-Carlton Road, Albion, NY 14411
Town of Clarendon | Town Hall, 16385 Church Street, Clarendon, NY 14429
Town of Gaines | Gaines Town Hall, 14087 Ridge Road West, Albion, NY 14411
Town of Kendall | Town Hall, 1873 Kendall Road, Kendall, NY 14476
Town of Murray | Murray Town Hall, 3840 Fancher Road, Holley, NY 14470
Town of Ridgeway | Ridgeway Town Hall, 410 West Avenue, Medina, NY 14103
Town of Shelby | Shelby Town Office, 4062 Salt Works Road, Medina, NY 14103
Town of Yates | Yates Town Hall, 8 South Main Street, Lyndonville, NY 14098
Village of Albion | Code Enforcement Office, 35 East Bank Street, Albion, NY 14411
Village of Holley | Village Hall, 1 Wright Street, Holley, NY 14470
Village of Lyndonville | Village Hall, 2 South Main Street, Lyndonville, NY 14098
Village of Medina | Village Clerks Office, 119 Park Avenue, Medina, NY 14103
Wells County, North Dakota and Incorporated Areas
Docket No.: FEMA-B-2380 and FEMA-B-2465
City of Fessenden | City Hall, 602 Railway Street S, Fessenden, ND 58438.
City of Hamberg | 19 2nd Street W, Hamberg, ND 58341.
City of Harvey | City Hall, 120 West 8th Street, Harvey, ND 58341.
Unincorporated Areas of Wells County | Wells County Courthouse, 700 Railway Street N, #37, Fessenden, ND 58438.

[FR Doc. 2025-12746 Filed 7-8-25; 8:45 am]

BILLING CODE 9110-12-P